DEPARTMENT OF HOMELAND SECURITY

Bureau of Customs and Border Protection

Updated List of the Ports-of-Entry Designated for Departure of Nonimmigrant Aliens Who Are Subject to Special Registration

AGENCY: Bureau of Customs and Border Protection, Department of Homeland Security.

ACTION: Notice.

SUMMARY: This notice provides the public with an updated list of ports through which nonimmigrant aliens who have been specially registered may depart from the United States. Special registration is required of nonimmigrant aliens whose presence in the United States requires closer monitoring.

EFFECTIVE DATE: This Notice is effective August 18, 2006.

FOR FURTHER INFORMATION CONTACT: Sophie Galvan, Program Manager, Traveler Security and Facilitation Division, Office of Field Operations, Bureau of Customs and Border Protection, 1300 Pennsylvania Avenue, NW., Room 5.4.D, Washington DC 20229.

SUPPLEMENTARY INFORMATION:

Nonimmigrant Aliens Subject To Special Registration Requirements

On August 12, 2002, the Attorney General published a final rule in the Federal Register at 67 FR 52584 to revise the special registration requirements for nonimmigrant aliens whose presence in the United States requires closer monitoring. The final rule requires that when a nonimmigrant alien subject to special registration departs from the United States, that immigrant must report to an Immigration and Naturalization Service (INS) inspecting officer at any port-of-entry (POE), unless INS has, by publication in the Federal Register, specified that POE as a port from which nonimmigrant aliens subject to special registration may not depart. This rule became effective on October 1, 2002.

On September 30, 2002, the INS published a notice in the Federal Register at 67 FR 61352 listing POEs through which nonimmigrant aliens who have been specially registered may depart from the United States. The notice set forth an affirmative list of POEs that could be used by specially registered nonimmigrant aliens rather than specifying ports that could not be used.

On February 19, 2003, the INS published a notice in the Federal Register at 68 FR 8047 expanding the list of POEs through which nonimmigrant aliens who have been specially registered may depart from the United States. On February 26, 2003, that notice was corrected by a publication in the Federal Register at 68 FR 8967.

As a result of the creation of the Department of Homeland Security, the Bureau of Customs and Border Protection (CBP) now has jurisdiction over the inspections functions of the former INS.

This notice lists all of the POEs that may be used for departure by special registrants. It expands the previously published list by adding seventeen (17) newly designated POEs; this notice also, however, removes one (1) POE from the previous list.

Removal of Port-of-Entry Designated for Final Registration and Departure by Nonimmigrant Aliens Subject to Special Registration

Effective August 18, 2006, the following POE will no longer be authorized to provide final registration and departure by nonimmigrant aliens subject to special registration: Bell Street Pier 66 (Seattle) Cruise Ship Terminal, Washington.

Additional Ports-Of-Entry Designated For Final Registration And Departure By Nonimmigrant Aliens Subject To Special Registration

Effective August 18, 2006, the POEs listed below will also be designated as POEs that are authorized to provide final registration and departure by nonimmigrant aliens subject to special registration:

Cincinnati/Northern Kentucky International Airport, Ohio;

Cyril E. King Airport, United States Virgin Islands;

Dunseith POE, North Dakota;

Frontier POE, Washington;

Jacksonville Seaport, Florida;

Lukeville, Arizona;

Mayaguez Seaport, Puerto Rico;

Melbourne International Airport, Florida;

Memphis International Airport;

New Orleans International Airport and Seaport;

Ponce Seaport, Puerto Rico;

Rochester International Airport, Minnesota;

Rochester-Ferry Terminal, New York;

Savannah International Airport, Georgia;

Southwest Florida International Airport, Florida;

St. Petersburg/Clearwater International Airport, Florida; and

Sumas POE, Washington.

Ports-of-Entry Which Are Not Authorized for the Departure of Nonimmigrant Aliens Subject to Special Registration

Nonimmigrant aliens who are subject to special registration may not depart the United States from any POE, or from any other point-of-embarkation, other than those listed below.

Ports-of-Entry Designated for Final Registration and Departure by Nonimmigrant Aliens Subject to Special Registration: Updated List

The below list of POEs includes the 17 POEs added by this notice, which will not be authorized to provide final registration and departure until August 18, 2006. Bell Street Pier 66 (Seattle) Cruise Ship Terminal, Washington (not listed below) is authorized to provide final registration and departure only until August 18, 2006.

Nonimmigrant aliens subject to special registration may be examined by CBP and may depart from the following POEs:

Amistad Dam POE, Texas;

Alcan POE, Alaska;

Anchorage International Airport, Alaska;

Atlanta Hartsfield International Airport, Georgia;

Baltimore Washington International Airport, Maryland;

Boeing Field, Seattle, Washington;

Bridge of the Americas POE, Texas;

Brownsville/Matamoros POE, Texas;

Buffalo Peace Bridge POE, New York;

Cape Vincent POE, New York;

Calexico POE, California;

Calais POE, Maine;

Cape Canaveral Seaport, Florida;

Chicago Midway Airport, Illinois;

Chicago O'Hare International Airport, Illinois;

Champlain POE, New York;

Charlotte International Airport, North Carolina;

Chateaugay POE, New York;

Cincinnati/Northern Kentucky International Airport, Ohio;

Cleveland International Airport, Ohio;

Columbus POE, New Mexico;

Cyril E. King Airport, United States Virgin Islands;

Dallas/Fort Worth International Airport, Texas;

Del Rio International Bridge POE, Texas;

Denver International Airport, Colorado;

Derby Line POE, Vermont;

Detroit International (Ambassador) Bridge POE, Michigan;

Detroit Canada Tunnel, Michigan;

Detroit Metro Airport, Michigan;

Douglas POE, Arizona;

Dunseith POE, North Dakota;

Eagle Pass POE, Texas;

Eastport POE, Idaho;

Fort Covington POE, New York;

Fort Duncan Bridge POE, Texas;

Frontier POE, Washington;

Galveston POE, Texas;

Grand Portage POE, Minnesota;

Guam International Airport;

Heart Island POE, New York;

Hidalgo POE, Texas;

Highgate Springs POE, Vermont;

Honolulu International Airport, Hawaii;

Honolulu Seaport, Hawaii;

Houlton POE, Maine;

Houston George Bush Intercontinental Airport, Texas;

Houston Seaport, Texas;

International Falls POE, Minnesota;

Jacksonville Seaport, Florida;

John F. Kennedy International Airport, New York;

Ketchikan Seaport, Alaska;

Kona International Airport and Seaport, Hawaii;

Gateway to the Americas Bridge POE, Laredo, Texas;

Las Vegas (McCarran) International Airport, Nevada;

Lewiston Bridge POE, New York;

Logan International Airport, Massachusetts;

Long Beach Seaport, California;

Los Angeles International Airport, California;

Lukeville, Arizona;

Madawaska POE, Maine;

Mayaguez Seaport, Puerto Rico;

Melbourne International Airport, Florida;

Memphis International Airport;

Miami International Airport, Florida;

Miami Marine Unit, Florida;

Minneapolis/St. Paul International Airport, Minnesota;

Mooers POE, New York;

New Orleans International Airport and Seaport;

Niagara Falls, Rainbow Bridge, New York;

Newark International Airport, New Jersey;

Nogales POE, Arizona;

Ogdensburg POE, New York;

Orlando, Florida;

Oroville POE, Washington;

Otay Mesa POE, California;

Pacific Highway POE, Washington;

Pembina POE, North Dakota;

Philadelphia International Airport, Pennsylvania;

Phoenix (Sky Harbor) International Airport, Arizona;

Piegan POE, Montana;

Pittsburgh International Airport, Pennsylvania;

Point Roberts POE, Washington;

Ponce Seaport, Puerto Rico;

Port Everglades Seaport, Florida;

Port Arthur POE, Texas;

Port Huron POE, Michigan;

Portal POE, North Dakota;

Portland International Airport, Oregon;

Progreso Bridge POE, Texas;

Raymond POE, Montana;

Rochester International Airport, Minnesota;

Rochester-Ferry Terminal, New York;

Roosville POE, Montana;

Rouses Point POE, New York;

San Antonio International Airport, Texas;

San Diego (Lindbergh Field) International Airport, California;

San Diego Seaport, California;

San Francisco International Airport, California;

San Juan International Airport and Seaport, Puerto Rico;

Sanford International Airport, Florida;

Sault Ste. Marie POE, Michigan;

Savannah International Airport, Georgia;

Seaway International Bridge/Massena POE, New York;

Seattle Tacoma International Airport, Washington;

Southwest Florida International Airport, Florida;

St. Petersburg/Clearwater International Airport, Florida;

St. Louis International Airport (Lambert Field), Missouri;

St. Thomas Seaport, U.S. Virgin Islands;

Sumas POE, Washington;

Sweetgrass POE, Montana;

Tampa International Airport and Seaport, Florida;

Thousand Islands POE, New York;

Trout River POE, New York;

Washington Dulles International Airport, Virginia; and

Ysleta POE, Texas.

Notice of Where To Report for Final Registration and Departure

The regulations governing the manner in which aliens are registered in the United States are contained in 8 CFR 264.1. Upon registration, whether registered at a POE upon admission to the United States or subsequent to admission, each nonimmigrant alien subject to special registration will be issued an information packet that will list each POE authorized for departure and other instructions on how to comply with 8 CFR 264.1. This packet will also contain specific information regarding hours of operation, directions and contact numbers.

Due to the limited availability of current resources, specifically departure staff and facilities, CBP must limit the POEs authorized for departure registration to effectively capture departure data. As more POEs become available to examine special registrants upon departure, CBP will designate additional POEs by notice in the Federal Register and make the list available on the following Web site: http://www.ice.gov/graphics/specialregistration/WalkawayMaterial.pdf.

Dated: August 3, 2006.
Deborah J. Spero,
Acting Commissioner, Customs and Border Protection.

[FR Doc. 06-6774 Filed 8-3-06; 4:17 pm]

BILLING CODE 9111-14-P